DEPARTMENT OF THE TREASURY

Office of Thrift Supervision

[AC-42: OTS No. H-4706]

Jacksonville Bancorp, Inc., Jacksonville, IL; Approval of Conversion Application

Notice is hereby given that on May 14, 2010, the Office of Thrift Supervision approved the application of Jacksonville Bancorp, MHC, and Jacksonville Savings Bank, Jacksonville, Illinois, to convert to the stock form of organization. Copies of the application are available for inspection by appointment (phone number: 202-906-5922 or e-mail Public.Info@OTS.Treas.gov) at the Public Reading Room, 1700 G Street, NW., Washington, DC 20552, and the OTS Central Regional Office, 1 South Wacker Drive, Suite 2000, Chicago, Illinois 60606.

Dated: May 21, 2010.
By the Office of Thrift Supervision.
Sandra E. Evans,
Federal Register Liaison.

[FR Doc. 2010-12819 Filed 5-28-10; 8:45 am]

BILLING CODE 6720-01-M